DEPARTMENT OF THE TREASURY

Submission for OMB Review; Comment Request

February 17, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before March 27, 2000 to be assured of consideration.

Financial Management Service (FMS)

OMB Number: 1510-0037.

Form Number: TFS 5135.

Type of Review: Extension.

Title: Voucher for Payment of Awards.

Description: Awards certified to Treasury are paid annually as funds are received from foreign Governments. Vouchers are mailed to awardholders showing payments due. Awardholders signs vouchers certifying that he/she is entitled to payment. Executed vouchers are used as basis for payment.

Respondents: Individuals or households.

Estimated Number of Respondents: 1,400.

Estimated Burden Hours Per Respondent: 30 minutes.

Frequency of Response: Other (as needed).

Estimated Total Reporting Burden: 700 hours.

OMB Number: 1510-0043.

Form Number: FMS 133 and FMS 135.

Type of Review: Extension.

Title: Notice of Reclamation, Electronic Funds Transfer, Federal Recurring Payments (FMS 133); and Request for Debit, Electronic Funds Transfer, Federal Recurring Payments (FMS 135).

Description: A program agency authorizes Treasury to recover payments that have been issued after the death of the beneficiary. FMS Form 133 is used by Treasury to notify the financial institution (FI) of the FI's accountability concerning the funds. When the FI's do not respond to the FMS 133, Treasury then prepared FMS 135 and sends it to the Federal Reserve Bank which services the FI to request the FRB to debit the account of the FI.

Respondents: Business or other for-profit.

Estimated Number of Respondents: 55,000.

Estimated Burden Hours Per Respondent: 12 minutes.

Frequency of Response: Other (one-time application).

Estimated Total Reporting Burden: 77,175 hours.

OMB Number: 1510-0045.

Form Number: FMS 150.1 and FMS 150.2.

Type of Review: Extension.

Title: Trace Request for EFT Payment.

Description: The purpose is to notify the financial institution that a customer (beneficiary) has claimed non-receipt of credit for a payment. The form is designed to help the financial institution locate any problem and keep that customer (beneficiary) informed of any action taken.

Respondents: Business or other for-profit.

Estimated Number of Respondents: 138,427.

Estimated Burden Hours Per Respondent: 8 minutes.

Frequency of Response: Other (as needed).

Estimated Total Reporting Burden: 18,457 hours.

Clearance Officer: Jacqueline R. Perry (301) 344-8577, Financial Management Service, 3361-L 75th Avenue, Landover, MD 20785.

OMB Reviewer: Alexander T. Hunt (202) 395-7860, Office of Management and Budget, Room 10202, New Executive Office Building, Washington, DC 20503.

Lois K. Holland,
Departmental Reports Management Officer.

[FR Doc. 00-4411 Filed 2-24-00; 8:45 am]

BILLING CODE 4810-35-P